DEPARTMENT OF HEALTH AND HUMAN SERVICES

Centers for Disease Control and Prevention

Advisory Committee on Childhood Lead Poisoning Prevention

In accordance with section 10(a)(2) of the Federal Advisory Committee Act (Pub. L. 92-463), the Centers for Disease Control and Prevention (CDC), announces the following meeting for the aforementioned committee:

Times and Dates: 8:30 a.m.-5 p.m., March 18, 2008. 8:30 a.m.-12:30 p.m., March 19, 2008.

Place: CDC Global Communication Center, Roybal Facility, 1600 Clifton Road, Atlanta, GA 30333, Telephone: (770) 488-3300.

Status: Open to the public, limited only by the space available. The meeting room accommodates approximately 75 people. Please Note: Due to current security measures, a valid government issued identification card with photo is required for admittance into the Roybal facility. Non-U.S. citizens wishing to attend should contact Claudine Johnson, Telephone: (770) 488-3629. Individuals should ask for the meeting by name: CDC Advisory Committee on Childhood Lead Poisoning Prevention when they arrive at the Roybal Visitors Center.

Purpose: The Committee provides advice and guidance to the Secretary; the Assistant Secretary for Health; and the Director, CDC, regarding new scientific knowledge and technological developments and their practical implications for childhood lead poisoning prevention efforts. The committee also reviews and reports regularly on childhood lead poisoning prevention practices and recommends improvements in national childhood lead poisoning prevention efforts.

Matters To Be Discussed: A discussion on the potential approaches to strengthen existing strategies to achieve the Healthy People 2010 goal of eliminating Elevated Blood Lead Levels as a public health problem in the U.S. by 2010; Update the school performance and concurrent Blood Lead Levels (BLLs); Discuss the study designs related to adverse effects from BLLs < 10 μg/dl; and discuss the development of a prevention-based research agenda.

Agenda items are subject to change as priorities dictate. There will be an opportunity for oral comments during the meeting. Depending on the time available and the number of requests, it may be necessary to limit the time of each presenter.

Contact Person for More Information: Claudine Johnson, Clerk, Lead Poisoning Prevention Branch, Division of Environmental Emergency Health Services, National Center for Environmental Health, CDC, 4770 Buford Hwy., NE., Mailstop F-60, Atlanta, GA 30341, Telephone: (770) 488-3629, Fax (770) 488-3635.

The Director, Management Analysis and Services Office, has been delegated the authority to sign Federal Register notices pertaining to announcements of meetings and other committee management activities, for both CDC and the Agency for Toxic Substances and Disease Registry.

Dated: February 27, 2008.
Diane Allen,
Acting Director, Management Analysis and Services Office, Centers for Disease Control and Prevention.

[FR Doc. E8-4085 Filed 2-29-08; 8:45 am]

BILLING CODE 4163-18-P